DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 23, 2015.
Roy E. Wright,
Deputy Associate Administrator for Mitigation, Department of Homeland Security, Federal Emergency Management Agency.

State and county | Location and case No. | Chief executive officer of community | Community map repository | Effective date of modification | Community No.
California: San Bernardino, (FEMA Docket No.: B-1446) | City of Yucaipa (14-09-0135P) | The Honorable Denise Hoyt, Mayor, City of Yucaipa, 34272 Yucaipa Boulevard, Yucaipa, CA 92399 | 34272 Yucaipa Boulevard, Yucaipa, CA 92399 | January 12, 2015 | 060739
Connecticut:
Fairfield, (FEMA Docket No.: B-1456) | City of Stamford (14-01-2347P) | The Honorable David Martin, Mayor, City of Stamford, 888 Washington Boulevard, Stamford, CT 06901 | 888 Washington Boulevard, Stamford, CT 06901 | February 19, 2015 | 090015
Fairfield, (FEMA Docket No.: B-1449) | Town of Darien (14-01-1743P) | The Honorable Jayme J. Stevenson, First Selectman, Town of Darien, 2 Renshaw Road, Darien, CT 06820 | 2 Renshaw Road, Darien, CT 06820 | February 13, 2015 | 090005
Fairfield, (FEMA Docket No.: B-1449) | Town of Darien (14-01-3341P) | The Honorable Jayme J. Stevenson, First Selectman, Town of Darien, 2 Renshaw Road, Darien, CT 06820 | 2 Renshaw Road, Darien, CT 06820 | March 9, 2015 | 090005
Fairfield, (FEMA Docket No.: B-1456) | Town of Trumbull (14-01-2179P) | Mr. Timothy M. Herbst, First Selectman, Town of Trumbull, 5866 Main Street, Trumbull, CT 06611 | 5866 Main Street, Trumbull, CT 06611 | March 6, 2015 | 090017
New Haven, (FEMA Docket No.: B-1456) | City of West Haven (14-01-2474P) | The Honorable Edward M. O'Brien, Mayor, City of West Haven, 355 Main Street, West Haven, CT 06516 | 355 Main Street, West Haven, CT 06516 | March 7, 2015 | 090092
Idaho:
Ada, (FEMA Docket No.: B-1446) | City of Boise (14-10-0845P) | The Honorable David Bieter, Mayor, City of Boise, 150 North Capitol Boulevard, Boise, ID 83701 | 150 North Capitol Boulevard, Boise, ID 83701 | December 24, 2014 | 160002
Illinois:
Peoria, (FEMA Docket No.: B-1449) | City of Peoria (14-05-7931P) | The Honorable Jim Ardis, Mayor, City of Peoria, 419 Fulton Street, Room 207, Peoria, IL 61602 | 419 Fulton Street, Room 207, Peoria, IL 61602 | February 18, 2015 | 170536
Peoria, (FEMA Docket No.: B-1449) | Unincorporated Areas of Peoria County (14-05-7931P) | The Honorable Thomas O'Neil, Chairman, Peoria County, 324 Main Street, Peoria, IL 61602 | 324 Main Street, Peoria, IL 61602 | February 18, 2015 | 170533
Will, (FEMA Docket No.: B-1446) | City of Crest Hill (14-05-5077P) | The Honorable Ray Soliman, Mayor, City of Crest Hill, 1610 Plainfield Road, Crest Hill, IL 60403 | 1610 Plainfield Road, Crest Hill, IL 60403 | January 13, 2015 | 170699
Will, (FEMA Docket No.: B-1446) | City of Joliet (14-05-5077P) | The Honorable Thomas C. Giarrante, Mayor, City of Joliet, 150 West Jefferson Street, Joliet, IL 60432 | 150 West Jefferson Street, Joliet, IL 60432 | January 13, 2015 | 170702
Will, (FEMA Docket No.: B-1449) | City of Naperville (14-05-5854P) | The Honorable A. George Pradel, Mayor, City of Naperville, 400 South Eagle Street, Naperville, IL 60540 | 400 South Eagle Street, Naperville, IL 60540 | February 16, 2015 | 170213
Indiana:
Dearborn, (FEMA Docket No.: B-1456) | City of Aurora (14-05-2910P) | The Honorable Donnie Hastings, Jr., Mayor, City of Aurora, 235 Main Street, Aurora, IN 47001 | 235 Main Street, Aurora, IN 47001 | March 20, 2015 | 185172
Dearborn, (FEMA Docket No.: B-1456) | City of Lawrenceburg (14-05-2910P) | The Honorable Dennis Carr, Mayor, City of Lawrenceburg, 230 Walnut Street, Lawrenceburg, IN 47025 | 230 Walnut Street, Lawrenceburg, IN 47025 | March 20, 2015 | 180041
Dearborn, (FEMA Docket No.: B-1456) | Unincorporated areas of Dearborn County (14-05-2910P) | The Honorable Shane McHenry, President, Dearborn County Board of Commissioners, 215 B West High Street, Lawrenceburg, IN 47025 | 215 B West High Street, Lawrenceburg, IN 47025 | March 20, 2015 | 180038
Marion, (FEMA Docket No.: B-1449) | City of Indianapolis (14-05-4021P) | The Honorable Gregory A. Ballard, Mayor, City of Indianapolis, 200 East Washington Street, Indianapolis, IN 46204 | 200 East Washington Street, Indianapolis, IN 46204 | February 4, 2015 | 180159
Monroe, (FEMA Docket No.: B-1456) | City of Bloomington (14-05-6705P) | The Honorable Mark Kruzan, Mayor, City of Bloomington, 401 North Morton Street, Suite 210, Bloomington, IN 47404 | 401 North Morton Street, Bloomington, IN 47404 | February 11, 2015 | 180169
Iowa: Woodbury, (FEMA Docket No.: B-1449) | City of Sioux City (14-07-1433P) | The Honorable Bob Scott, Mayor, City of Sioux City, 405 6th Street, Sioux City, IA 51102 | 405 6th Street, Sioux City, IA 51102 | February 10, 2015 | 190298
Kansas:
Butler, (FEMA Docket No.: B-1449) | City of Andover (14-07-1469P) | The Honorable Ben Lawrence, Mayor, City of Andover, 1609 East Central Avenue, Andover, KS 67002 | 1609 East Central Avenue, Andover, KS 67002 | February 13, 2015 | 200383
Butler, (FEMA Docket No.: B-1449) | Unincorporated Areas of Butler County (14-07-1469P) | Mr. William Johnson, County Administrator, Butler County, 205 West Central, El Dorado, KS 67042 | 205 West Central, El Dorado, KS 67042 | February 13, 2015 | 200037
Rice, (FEMA Docket No.: B-1446) | City of Lyons (14-07-1730P) | The Honorable Michael Young, Mayor, City of Lyons, 217 East Avenue South, Lyons, KS 67554 | 217 East Avenue South, Lyons, KS 67554 | December 22, 2014 | 200295
Sedgwick, (FEMA Docket No.: B-1456) | City of Wichita (14-07-2054P) | The Honorable Carl Brewer, Mayor, City of Wichita, 455 North Main , 1st Floor, Wichita, KS 67202 | 455 North Main, Wichita, KS 67202 | March 5, 2015 | 200328
Sedgwick, (FEMA Docket No.: B-1456) | Unincorporated areas of Sedgwick County (14-07-2054P) | The Honorable James Skelton, Commissioner, Sedgwick County, 525 North Main, Suite 320, Wichita, KS 67203 | 525 North Main, Wichita, KS 67203 | March 5, 2015 | 200321
Maine: Androscoggin, (FEMA Docket No.: B-1446) | Town of Greene (14-01-2808P) | Mr. Ronald I. Grant, Chairman, Town of Greene, 220 Main Street, Greene, ME 04236 | 220 Main Street, Greene, ME 04236 | December 23, 2014 | 230475
Massachusetts: Plymouth, (FEMA Docket No.: B-1446) | Town of Marion (14-01-0063P) | Mr. Paul F. Dawson, Town Administrator, Town of Marion, 2 Spring Street, Marion, MA 02738 | 2 Spring Street, Marion, MA 02738 | December 26, 2014 | 255213
Michigan:
Macomb, (FEMA Docket No.: B-1449) | Township of Washington (14-05-2918P) | The Honorable Dan O'Leary, Supervisor, Township of Washington, 57900 Van Dyke Road, Washington Township, MI 48094 | 57900 Van Dyke Road, Washington Township, MI 48094 | February 3, 2015 | 260447
Oakland, (FEMA Docket No.: B-1449) | City of Troy (14-05-4347P) | The Honorable Dan Slater, Mayor, City of Troy, 500 West Big Beaver Road, Troy, MI 48084 | 500 West Big Beaver Road, Troy, MI 48084 | February 3, 2015 | 260180
Oakland, (FEMA Docket No.: B-1446) | City of Troy (14-05-5494P) | The Honorable Dane Slater, Mayor, City of Troy, 500 West Big Beaver, Troy, MI 48084 | 500 West Big Beaver, Troy, MI 48084 | January 26, 2015 | 260180
Minnesota:
Hennepin, (FEMA Docket No.: B-1446) | City of Edina (14-05-2615P) | The Honorable James Hovland, Mayor, City of Edina, 4801 West 50th Street, Edina, MN 55424 | 4801 West 50th Street, Edina, MN 55424 | December 29, 2014 | 270160
Hennepin, (FEMA Docket No.: B-1446) | City of St. Louis Park (14-05-2615P) | The Honorable Jeff Jacobs, Mayor, City of St. Louis Park, 5005 Minnetonka Boulevard, St. Louis Park, MN 55416 | 5005 Minnetonka Boulevard, St. Louis Park, MN 55416 | December 29, 2014 | 270184
Washington, (FEMA Docket No.: B-1449) | City of Woodbury (14-05-4889P) | The Honorable Mary Giuliani-Stephens, Mayor, City of Woodbury, 8301 Valley Creek Road, Woodbury, MN 55125 | 8301 Valley Creek Road, Woodbury, MN 55125 | February 5, 2015 | 270699
Missouri: St. Charles, (FEMA Docket No.: B-1446) | City of O'Fallon (14-07-1935P) | The Honorable Bill Hennessy, Mayor, City of O'Fallon, 8 Shelby Crest Court, O'Fallon, MO 63366 | 100 North Main Street, O'Fallon, MS 63366 | January 22, 2015 | 290316
Ohio:
Butler, (FEMA Docket No.: B-1449) | City of Monroe (14-05-5954P) | The Honorable Robert E. Routson, Mayor, City of Monroe, 233 South Main Street, Monroe, OH 45050 | 233 South Main Street, Monroe, OH 45050 | February 16, 2015 | 390042
Franklin, (FEMA Docket No.: B-1456) | City of Grove City (13-05-7763P) | The Honorable Richard Stage, Mayor, City of Grove City, 4035 Broadway, Grove City, OH 43123 | 4035 Broadway, Grove City, OH 43123 | March 12, 2015 | 390173
Franklin, (FEMA Docket No.: B-1456) | Unincorporated areas of Franklin County (13-05-7763P) | The Honorable Marilyn Brown, President, Franklin County Board of Commissioners, 373 South High Street, 26th Floor, Columbus, OH 43215 | 373 South High Street, Columbus, OH 43215 | March 12, 2015 | 390167
Oregon:
Clackamas, (FEMA Docket No.: B-1446) | City of Portland (14-10-1890P) | The Honorable Charlie Hales, Mayor, City of Portland, 1221 Southwest 4th Avenue, Room 340, Portland, OR 97204 | 1221 Southwest 4th Avenue, Room 230, Portland, OR 97204 | November 24, 2014 | 410183
Tillamook, (FEMA Docket No.: B-1449) | City of Nehalem (14-10-1695P) | The Honorable Shirley Kalkhoven, Mayor, City of Nehalem, 35900 8th Street, Nehalem, OR 97131 | 35900 8th Street, Nehalem, OR 97131 | February 11, 2015 | 410200
Tillamook, (FEMA Docket No.: B-1449) | Unincorporated Areas of Tillamook (14-10-1695P) | The Honorable Tim Josi, Board of County Commissioners, Tillamook County, 201 Laurel Avenue, Tillamook, OR 97141 | 201 Laurel Avenue, Tillamook, OR 97141 | February 11, 2015 | 410196
Tillamook, (FEMA Docket No.: B-1449) | Unincorporated Areas of Tillamook (14-10-1696P) | The Honorable Tim Josi, Board of County Commissioners, Tillamook County, 201 Laurel Avenue, Tillamook, OR 97141 | 201 Laurel Avenue, Tillamook, OR 97141 | February 11, 2015 | 410196
Washington, (FEMA Docket No.: B-1446) | City of Hillsboro (14-10-1241P) | The Honorable Jerry Wiley, Mayor, City of Hillsboro, 150 East Main Street, Hillsboro, OR 97123 | 123 West Main Street, Hillsboro, OR 97123 | January 2, 2015 | 410243

[FR Doc. 2015-07395 Filed 3-31-15; 8:45 am]

BILLING CODE 9110-12-P